DEPARTMENT OF HEALTH AND HUMAN SERVICES

Health Resources and Services Administration

Agency Information Collection Activities: Proposed Collection: Public Comment Request; Information Collection Request Title: Bureau of Primary Health Care—Program Management Resource Compendium, 0906-XXXX, New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 9, 2021.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: Bureau of Primary Health Care—Program Management Resource Compendium, OMB No. 0906-XXXX, New.

Abstract: The Program Management Resource Compendium project will encompass an historical analysis of HRSA's Bureau of Primary Health Care (BPHC), as well as an historical analysis of the Health Center Program. Dating from the founding of the initial community health centers in the mid-1960s up to the present time, the analysis will consider the evolution and critical milestones of BPHC and the Health Center Program based on documentary research and interviews with individuals with historical knowledge of the Health Center Program and the health center movement.

Need and Proposed Use of the Information: The information gathered through interviews will be combined with information drawn from documentary research to inform the historical analysis. The results of the analysis will be presented in communication products for an internal audience, as well as products for an external audience. The goals of the project are to increase awareness of the Health Center Program management within the government and among the general public, as well as to inform BPHC's future development by analyzing and drawing lessons from its earlier administration of the Health Center Program.

Likely Respondents: Interviews are expected with current and former HRSA employees, as well as representatives of the National Association of Community Health Centers, other national organizations, state and regional Primary Care Associations, and HRSA-funded health centers. A list of possible interviewees has been compiled with input by current and former BPHC leadership and staff. A total of 35-50 interviews are expected.

Interviews will be conducted virtually by a trained moderator and note taker, using a structured in-depth interview guide. Each interview is expected to last approximately one hour. It is also anticipated that interviewees may spend up to 15 minutes preparing for their interviews, for example by reviewing historical files. Signed consent forms regarding participation and the use of recording devices during the interview will be obtained from each participant prior to their participation in the interviews. The following are sample interview questions that may be included in the in-depth interview guide:

• What were program management processes like when you began working at BPHC? What were they like by the time you left?

• What major transitions or changes in program management occurred during your tenure and why were these undertaken?

• What positive experiences or outcomes have you witnessed as a result of the Health Center Program and its program management?

• What are some specific issues, concerns, or problems faced by the Health Center Program through the years? How has the program adapted to meet these challenges?

• How do you envision BPHC evolving over the next 5 years?

• If you could choose two elements of BPHC's management processes to change, what would you change and why?

• What inspired you to become involved with the Health Center Program?

Burden Statement: Burden in this context means the time expended by persons to generate, maintain, retain, disclose or provide the information requested. This includes the time needed to: Review instructions; develop, acquire, install, and utilize technology and systems for the purpose of collecting, validating, and verifying information, processing and maintaining information, and disclosing and providing information; train personnel and to be able to respond to a collection of information; search data sources; complete and review the collection of information; and transmit or otherwise disclose the information. The total annual burden hours estimated for this ICR are summarized in the table below.

Total Estimated Annualized Burden Hours
Form name | Number of respondents | Number of responses per respondent | Total responses | Average burden per response (in hours) | Total burden hours
Historical interview | 50 | 1 | 50 | 1.25 | 62.5
Total | 50 |  | 50 |  | 62.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-12150 Filed 6-9-21; 8:45 am]

BILLING CODE 4165-15-P